NATIONAL AERONAUTICS AND SPACE ADMINISTRATION

[Notice: (10-074)]

NASA Advisory Council; Space Operations Committee; Meeting

AGENCY: National Aeronautics and Space Administration.

ACTION: Notice of meeting.

SUMMARY: In accordance with the Federal Advisory Committee Act, Public Law 92-463, as amended, the National Aeronautics and Space Administration announces a meeting of the Space Operations Committee of the NASA Advisory Council.

DATES: Wednesday, July 28, 2010, 2-5 p.m. EDT.

ADDRESSES: Doubletree Hotel, 2080 North Atlantic Avenue, Cocoa Beach, FL 32931.

FOR FURTHER INFORMATION CONTACT: Mr. Jacob Keaton, Space Operations Mission Directorate, National Aeronautics and Space Administration Headquarters, Washington, DC 20546, 202/358-1507, Jacob.keaton@nasa.gov.

SUPPLEMENTARY INFORMATION: The agenda for the meeting includes the following topics:

—Recommendation Preparation.

The meeting will be open to the public up to the seating capacity of the room. It is imperative that the meeting be held on this date to accommodate the scheduling priorities of the key participants.

Dated: July 7, 2010.
P. Diane Rausch,
Advisory Committee Management Officer, National Aeronautics and Space Administration.

[FR Doc. 2010-16949 Filed 7-12-10; 8:45 am]

BILLING CODE P